DEPARTMENT OF HOMELAND SECURITY

Federal Emergency Management Agency

[Docket ID FEMA-2018-0002]

Changes in Flood Hazard Determinations

AGENCY: Federal Emergency Management Agency, DHS.

ACTION: Final Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Dated: May 1, 2018.
David I. Maurstad,
Deputy Associate Administrator for Insurance and Mitigation (Acting), Department of Homeland Security, Federal Emergency Management Agency.

State and county | Location and case No. | Chief executive officer of community | Community map repository | Date of modification | Community No.
Arkansas: Benton, (FEMA Docket No.: B-1803) | City of Lowell, (17-06-1806P) | The Honorable Eldon Long, Mayor, City of Lowell, 216 North Lincoln Street, Lowell, AR 72745 | City Hall, 216 North Lincoln Street, Lowell, AR 72745 | Mar. 26, 2018 | 050342
Colorado: Jefferson, (FEMA Docket No.: B-1803) | City of Westminster, (17-08-0650P) | The Honorable Herb Atchison, Mayor, City of Westminster, 4800 West 92nd Avenue, Westminster, CO 80031 | City Hall, 4800 West 92nd Avenue, Westminster, CO 80031 | Apr. 6, 2018 | 080008
Florida:
Brevard, (FEMA Docket No.: B-1803) | City of Cocoa Beach, (17-04-7481P) | The Honorable Ben Malik, Mayor, City of Cocoa Beach, P.O. Box 322430, Cocoa Beach, FL 32932 | Development Services Department, 2 South Orlando Avenue, Cocoa Beach, FL 32931 | Apr. 5, 2018 | 125097
DeSoto, (FEMA Docket No.: B-1803) | Unincorporated areas of DeSoto County, (17-04-5738P) | The Honorable Elton Langford, Chairman, DeSoto County Board of Commissioners, 201 East Oak Street, Suite 201, Arcadia, FL 34266 | DeSoto County Planning and Zoning Department, 201 East Oak Street, Suite 204, Arcadia, FL 34266 | Mar. 23, 2018 | 120072
Hillsborough, (FEMA Docket No.: B-1803) | Unincorporated areas of Hillsborough County, (17-04-1127P) | The Honorable Stacy White, Chairman, Hillsborough County Board of Commissioners, 601 East Kennedy Boulevard, Tampa, FL 33602 | Hillsborough County Development Services Department, 601 East Kennedy Boulevard, Tampa, FL 33602 | Apr. 4, 2018 | 120112
Lake, (FEMA Docket No.: B-1803) | Unincorporated areas of Lake County, (17-04-3997P) | The Honorable Timothy I. Sullivan, Chairman, Lake County Board of Commissioners, P.O. Box 7800, Tavares, FL 32778 | Lake County Public Works Department, 437 Ardice Avenue, Eustis, FL 32726 | Mar. 29, 2018 | 120421
Lee, (FEMA Docket No.: B-1803) | Unincorporated areas of Lee County, (17-04-7100P) | The Honorable Mr. John Manning, Chairman, Lee County Board of Commissioners, P.O. Box 398, Fort Myers, FL 33902 | Lee County Building Department, 1500 Monroe Street, Fort Myers, FL 33901 | Apr. 3, 2018 | 125124
Georgia:
Cobb, (FEMA Docket No.: B-1803) | City of Powder Springs, (17-04-7207P) | The Honorable Al Thurman, Mayor, City of Powder Springs, P.O. Box 46, Powder Springs, GA 30127 | Community Development Department, 4488 Pineview Drive, Powder Springs, GA 30127 | Apr. 9, 2018 | 130056
Cobb, (FEMA Docket No.: B-1803) | Unincorporated areas of Cobb County, (17-04-7207P) | The Honorable Mike Boyce, Chairman, Cobb County Board of Commissioners, 100 Cherokee Street, Marietta, GA 30090 | Cobb County Stormwater Management Division, 680 South Cobb Drive, Marietta, GA 30060 | Apr. 9, 2018 | 130052
New Mexico: Bernalillo, (FEMA Docket No.: B-1807) | Unincorporated areas of Bernalillo County, (17-06-3952P) | Ms. Julie Morgas Baca, Manager, Bernalillo County, 1 Civic Plaza Northwest, Albuquerque, NM 87102 | Bernalillo County Public Works Division, 2400 Broadway Southeast, Albuquerque, NM 87102 | Apr. 6, 2018 | 350001
North Carolina:
Durham, (FEMA Docket No.: B-1816) | Unincorporated areas of Durham County, (17-04-2721P) | The Honorable Wendy Jacobs, Chair, Durham County Board of Commissioners, 200 East Main Street, 2nd Floor, Durham, NC 27701 | Durham County Stormwater Services Department, 101 City Hall Plaza, Durham, NC 27701 | Feb. 21, 2018 | 370085
Orange, (FEMA Docket No.: B-1803) | Town of Chapel Hill, (17-04-3137P) | The Honorable Pam Hemminger, Mayor, Town of Chapel Hill, 405 Martin Luther King Jr. Boulevard, Chapel Hill, NC 27514 | Stormwater Management Program Department, 208 North Columbia Street, Chapel Hill, NC 27514 | Mar. 13, 2018 | 370180
Wayne, (FEMA Docket No.: B-1816) | City of Goldsboro, (16-04-6905P) | The Honorable Chuck Allen, Mayor, City of Goldsboro, P.O. Drawer A, Goldsboro, NC 27533 | City Hall, 200 North Center Street, Goldsboro, NC 27530 | Apr. 6, 2018 | 370255
Wayne, (FEMA Docket No.: B-1816 ) | Unincorporated areas of Wayne County, (16-04-6905P) | The Honorable Bill Pate, Chairman, Wayne County Board of Commissioners, 224 East Walnut Street, Goldsboro, NC 27530 | Wayne County Planning Department, 134 North John Street, Goldsboro, NC 27530 | Apr. 6, 2018 | 370254
Oklahoma:
Tulsa, (FEMA Docket No.: B-1807) | City of Bixby, (17-06-2611P) | The Honorable John Easton, Mayor, City of Bixby, P.O. Box 70, Bixby, OK 74008 | Planning Department, 116 West Needles, Bixby, OK 74008 | Apr. 9, 2018 | 400207
Tulsa, (FEMA Docket No.: B-1807) | City of Tulsa, (17-06-2611P) | The Honorable G. T. Bynum, Mayor, City of Tulsa, 175 East 2nd Street, 15th Floor, Tulsa, OK 74103 | Planning and Development Department, 175 East 2nd Street, Tulsa, OK 74103 | Apr. 9, 2018 | 405381
Texas:
Bexar, (FEMA Docket No.: B-1803) | City of San Antonio, (17-06-2000P) | The Honorable Ron Nirenberg, Mayor, City of San Antonio, P.O. Box 839966, San Antonio, TX 78283 | Transportation and Capital Improvements Department, Storm Water Division, 1901 South Alamo Street, 2nd Floor, San Antonio, TX 78284 | Mar. 30, 2018 | 480045
Collin, (FEMA Docket No.: B-1803) | City of Frisco, (17-06-3743P) | The Honorable Jeff Cheney, Mayor, City of Frisco, 6101 Frisco Square Boulevard, Frisco, TX 75034 | Engineering Services Department, 11300 Research Road, Frisco, TX 75033 | Apr. 9, 2018 | 480134
Collin, (FEMA Docket No.: B-1803) | City of McKinney, (17-06-2726P) | The Honorable George Fuller, Mayor, City of McKinney, P.O. Box 517, McKinney, TX 75070 | Engineering Department, 221 North Tennessee Street, McKinney, TX 75069 | Apr. 2, 2018 | 480135
Collin, (FEMA Docket No.: B-1803) | City of McKinney, (17-06-3589P) | The Honorable George Fuller, Mayor, City of McKinney, P.O. Box 517, McKinney, TX 75070 | Engineering Department, 221 North Tennessee Street, McKinney, TX 75069 | Mar. 26, 2018 | 480135
Collin, (FEMA Docket No.: B-1810) | City of Murphy, (17-06-1778P) | Mr. Mike Castro, Ph.D., Manager, City of Murphy, 206 North Murphy Road, Murphy, TX 75094 | City Hall, 206 North Murphy Road, Murphy, TX 75094 | Apr. 6, 2018 | 480137
Dallas, (FEMA Docket No.: B-1810) | City of Dallas, (17-06-2978P) | The Honorable Michael S. Rawlings, Mayor, City of Dallas, 1500 Marilla Street, Suite 5EN, Dallas, TX 75201 | Engineering Department, 320 East Jefferson Boulevard, Room 200, Dallas, TX 75203 | Mar. 26, 2018 | 480171
Denton, (FEMA Docket No.: B-1803) | Town of Prosper, (17-06-2975P) | The Honorable Ray Smith, Mayor, Town of Prosper, P.O. Box 307, Prosper, TX 75078 | Engineering Department, 407 East 1st Street, Prosper, TX 75078 | Mar. 29, 2018 | 480141
Harris, (FEMA Docket No.: B-1803) | Unincorporated areas of Harris County, (17-06-3082P) | The Honorable Edward M. Emmett, Harris County Judge, 1001 Preston Street, Suite 911, Houston, TX 77002 | Harris County Permit Office, 10555 Northwest Freeway, Suite 120, Houston, TX 77092 | Apr. 2, 2018 | 480287
Harris and Montgomery, (FEMA Docket No.: B-1810) | City of Houston, (17-06-2680P) | The Honorable Sylvester Turner, Mayor, City of Houston, P.O. Box 1562, Houston, TX 77251 | Department of Public Works and Engineering, 1002 Washington Avenue, 3rd Floor, Houston, TX 77002 | Apr. 9, 2018 | 480296
Johnson, (FEMA Docket No.: B-1803) | City of Burleson, (17-06-2604P) | The Honorable Ken Shatter, Mayor, City of Burleson, 141 West Renfro Street, Burleson, TX 76028 | Public Works Department, 725 Southeast John Jones Drive, Burleson, TX 76028 | Apr. 6, 2018 | 485459
Montgomery, (FEMA Docket No.: B-1810) | City of Conroe, (17-06-2100P) | The Honorable Toby Powell, Mayor, City of Conroe, 300 West Davis Street, Conroe, TX 77301 | Engineering Department, 300 West Davis Street, Conroe, TX 77301 | Apr. 9, 2018 | 480484
Montgomery, (FEMA Docket No.: B-1810) | City of Panorama Village, (17-06-2100P) | The Honorable Lynn Scott, Mayor, City of Panorama Village, 99 Hiwon Drive, Panorama Village, TX 77304 | City Hall, 99 Hiwon Drive, Panorama Village, TX 77304 | Apr. 9, 2018 | 481263
Montgomery, (FEMA Docket No.: B-1810) | Unincorporated areas of Montgomery County, (17-06-2680P) | The Honorable Craig B. Doyal, Montgomery County Judge, 501 North Thompson Street, Suite 401, Conroe, TX 77301 | Montgomery County, Permit Department, 501 North Thompson Street, Suite 100, Conroe, TX 77301 | Apr. 9, 2018 | 480483
Tarrant (FEMA Docket No.: B-1807) | City of Fort Worth, (17-06-2262P) | The Honorable Betsy Price, Mayor, City of Fort Worth, 200 Texas Street, Fort Worth, TX 76102 | Transportation and Public Works Department, 200 Texas Street, Fort Worth, TX 76102 | Apr. 9, 2018 | 480596
Tarrant, (FEMA Docket No.: B-1807) | City of Westworth Village, (17-06-2290P) | The Honorable Michael R. Coleman, Mayor, City of Westworth Village, 311 Burton Hill Road, Westworth Village, TX 76114 | City Hall, 311 Burton Hill Road, Westworth Village, TX 76114 | Apr. 5, 2018 | 480616
Travis, (FEMA Docket No.: B-1807) | City of Pflugerville, (17-06-3700P) | The Honorable Victor Gonzales, Mayor, City of Pflugerville, P.O. Box 589, Pflugerville, TX 78691 | Development Services Department, 201-B East Pecan Street, Pflugerville, TX 78691 | Apr. 9, 2018 | 481028
Virginia: Fauquier, (FEMA Docket No.: B-1803) | Unincorporated areas of Fauquier County, (17-03-1541P) | The Honorable Richard R. Gerhardt, Chairman, Fauquier County Board of Supervisors, 10 Hotel Street, Suite 208, Warrenton, VA 20186 | Fauquier County Circuit Court, 29 Ashby Street, 3rd Floor, Warrenton, VA 20186 | Apr. 5, 2018 | 510055

[FR Doc. 2018-09775 Filed 5-7-18; 8:45 am]

BILLING CODE 9110-12-P